DEPARTMENT OF COMMERCE

National Oceanic and Atmospheric Administration

50 CFR Part 679

[Docket No. 170630613-8489-01]

RIN 0648-BH02

Fisheries of the Exclusive Economic Zone Off Alaska; Yellowfin Sole Management in the Groundfish Fisheries of the Bering Sea and Aleutian Islands; Correction

AGENCY: National Marine Fisheries Service (NMFS), National Oceanic and Atmospheric Administration (NOAA), Commerce.

ACTION: Proposed rule; request for comments; correction.

SUMMARY: NMFS is correcting a proposed rule that published on June 6, 2018, that would limit access to the Bering Sea and Aleutian Islands (BSAI) Trawl Limited Access Sector (TLAS) yellowfin sole directed fishery by vessels that deliver their catch of yellowfin sole to motherships for processing. Two paragraphs in the preamble and two tables in the proposed regulatory text contained errors.

DATES: Comments on the proposed rule must be submitted on or before July 6, 2018.

ADDRESSES: You may submit comments on this document, identified by FDMS Docket Number NOAA-NMFS-2017-0083, by any of the following methods:

• Electronic Submission: Submit all electronic public comments via the Federal e-Rulemaking Portal. Go to www.regulations.gov/#!docketDetail;D=NOAA-NMFS-2017-0083, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of Amendment 116 and the draft Environmental Assessment/Regulatory Impact Review prepared for this action (collectively the “Analysis”) may be obtained from www.regulations.gov. Electronic copies of Amendments 80 and 39 to the BSAI FMP, and the Environmental Assessments/Regulatory Impact Reviews prepared for those actions also may be obtained from www.regulations.gov.

Written comments regarding the burden-hour estimates or other aspects of the collection-of-information requirements contained in this rule may be submitted by mail to NMFS at the above address; and by email to OIRA_Submission@omb.eop.gov or by fax to (202) 395-5806.

FOR FURTHER INFORMATION CONTACT: Bridget Mansfield, 907-586-7228.

SUPPLEMENTARY INFORMATION: NMFS published a proposed rule to implement Amendment 116 to the Fishery Management Plan for Groundfish of the Bering Sea and Aleutian Islands Management Area (BSAI FMP) on June 6, 2018 (83 FR 26237). If approved, Amendment 116 would limit access to the BSAI TLAS yellowfin sole directed fishery by vessels that deliver their catch of yellowfin sole to motherships for processing. This proposed rule would (1) establish eligibility criteria based on historical participation in the BSAI TLAS yellowfin sole directed fishery, (2) issue an endorsement to those groundfish License Limitation Program (LLP) licenses that meet the eligibility criteria, and (3) authorize delivery of BSAI TLAS yellowfin sole to motherships by only those vessels designated on a groundfish LLP license that is endorsed for the BSAI TLAS yellowfin sole directed fishery. The public comment period for the proposed rule ends on July 6, 2018.

Need for Correction

Proposed Table 52 in the proposed rule incorrectly identifies the groundfish LLP licenses that would be eligible to be credited with qualifying landings and receive an endorsement that allows catcher vessels to deliver BSAI TLAS yellowfin sole to a mothership. Proposed Table 53 incorrectly identifies the groundfish LLP licenses that would be eligible for, but would not be credited with, qualifying landings and thus would not receive a BSAI TLAS yellowfin sole catcher vessel directed fishery endorsement to deliver to a mothership until notification from the vessel owner is received by NMFS. Two paragraphs in the preamble to the proposed rule that describe these eligible groundfish LLP licenses incorrectly identified the number of groundfish LLP licenses that would be eligible to be credited with qualifying landings and receive a BSAI TLAS yellowfin sole catcher vessel directed fishery endorsement. These corrections are necessary because the proposed rule, if approved as published, would result in a total of seven groundfish LLP licenses that would receive a BSAI TLAS yellowfin sole directed fishery endorsement. However, NMFS has determined that a total of eight groundfish LLP licenses would receive a BSAI TLAS yellowfin sole directed fishery endorsement.

Based on the information provided in the analysis and the official record, NMFS has determined that 10 groundfish LLP licenses would be eligible to be credited with qualifying landing(s) and receive a BSAI TLAS yellowfin sole directed fishery endorsement. Six of these groundfish LLP licenses, rather than two as published in the proposed rule on June 6, 2018, would be immediately eligible to be credited with a qualifying landing and receive the endorsement (groundfish LLP licenses 3741, 3944, 2913, 1667, 3714, and 1820). Therefore, under this proposed rule, those six groundfish LLP licenses would be credited with a qualifying landing and receive a BSAI TLAS directed fishery endorsement. The remaining four eligible groundfish LLP licenses (groundfish LLP licenses 3838, 2702, 3902, and 3826), rather than eight as published in the proposed rule on June 6, 2018, were each one of two groundfish LLP licenses designated on a vessel that made qualifying landings during the qualifying period; therefore, those four groundfish LLP licenses would be eligible to be credited with a qualifying landing and receive an endorsement. For any of those four groundfish LLP licenses to be credited with a qualifying landing and receive an endorsement, the vessel owner would be required to select one groundfish LLP license that NMFS is to credit with all qualifying landings made by that vessel. Up to two of those four groundfish LLP licenses could be credited with a qualifying landing and receive an endorsement from NMFS. Therefore, NMFS anticipates that a total of eight groundfish LLP licenses could receive a BSAI TLAS yellowfin sole directed fishery endorsement under the proposed rule, resulting in up to eight vessels that could participate in the BSAI TLAS yellowfin sole directed fishery and deliver their catch to a mothership.

Correction

In the proposed rule, published on June 6, 2018 (83 FR 26237), the following corrections are made:

1. On page 26245, beginning in column 2, the last paragraph is corrected to read as follows:

Based on the information provided in the Analysis and the official record, NMFS has determined that ten groundfish LLP licenses would be eligible to be credited with qualifying landing(s) and receive a BSAI TLAS yellowfin sole directed fishery endorsement. Six of these were the sole groundfish LLP license designated on a vessel in a given year during the qualifying period, for those vessels that made a qualifying landing. Therefore, under this proposed rule, those six groundfish LLP licenses would be credited with a qualifying landing and receive a BSAI TLAS directed fishery endorsement. The remaining four eligible groundfish LLP licenses were each one of two groundfish LLP licenses designated on a vessel that made qualifying landings during the qualifying period; therefore, those four groundfish LLP licenses would be eligible to be credited with a qualifying landing and receive an endorsement. For any of those four groundfish LLP licenses to be credited with a qualifying landing and receive an endorsement, the vessel owner would be required to select one groundfish LLP license that NMFS is to credit with all qualifying landings made by that vessel. Up to two of those four groundfish LLP licenses could be credited with a qualifying landing and receive an endorsement from NMFS. Therefore, NMFS anticipates that a total of eight groundfish LLP licenses could receive a BSAI TLAS yellowfin sole directed fishery endorsement under the proposed rule, resulting in up to eight vessels that could participate in the BSAI TLAS yellowfin sole directed fishery and deliver their catch to a mothership.

2. On page 26246, beginning in column 2, the last paragraph is corrected to read as follows:

Based on the official record, NMFS has identified ten groundfish LLP licenses that would be eligible to be credited with qualifying landings. Six of these eligible groundfish LLP licenses were the sole groundfish LLP license on which a given vessel was designated at the time the vessel made qualifying landings of BSAI TLAS yellowfin sole. Therefore, NMFS would credit these six groundfish LLP licenses with the qualifying landings under this proposed rule. NMFS proposes to list these six groundfish LLP licenses in Table 52 to part 679. The remaining four eligible groundfish LLP licenses were not the sole groundfish LLP license on which a given vessel was designated at the time the vessel made at least one trip target in the BSAI TLAS fishery during the qualifying period. Because this proposed rule would require in such cases that the vessel owner specify one groundfish LLP license to receive credit with the qualified landing(s) made by that vessel, NMFS would not be able to credit these groundfish LLP licenses until NMFS receives notification from the vessel owner which groundfish LLP license should be credited with the qualifying landing(s). NMFS proposes to list in Table 53 to part 679 the four groundfish LLP licenses that would be eligible for, but would not be credited with, qualifying landings until notification from the vessel owner is received by NMFS. The proposed notification process is described in the following section.

3. On page 26251, column 2, is corrected to correctly identify the groundfish LLP licenses that are eligible to be assigned an endorsement for the BSAI Trawl Limited Access Sector yellowfin sole fishery.

Table 52 is corrected and reprinted in its entirety to read as follows:

Table 52 to Part 679—Groundfish LLP Licenses Eligible for a BSAI Trawl Limited Access Sector Yellowfin Sole Directed Fishery Endorsement
[X indicates that Column A applies]
Column A | Column B
The Holder of Groundfish License No. | Is eligible Under 50 CFR 679.4(k)(14)(ii) to be assigned an Endorsement for the BSAI Trawl Limited Access Sector Yellowfin Sole Fishery
LLG 3944 | X
LLG 2913 | X
LLG 1667 | X
LLG 3714 | X
LLG 1820 | X
LLG 3741 | X

4. On page 26251, column 3, is corrected to correctly identify the groundfish LLP licenses that require qualified landings assignment to be eligible for a BSAI Trawl Limited Access Sector yellowfin sole directed fishery endorsement.

Table 53 is corrected and reprinted in its entirety to read as follows:

Table 53 to Part 679—Groundfish LLP Licenses that Require Qualified Landings Assignment To Be Eligible for a BSAT Trawl Limited Access Sector Yellowfin Sole Directed Fishery Endorsement
[X indicates that Column A applies]
Column A | Column B
A single vessel was designated on the following pairs of groundfish LLP licenses during the qualifying period identified in 50 CFR 679.4(k)(14)(ii)(A)(1) | The owner of the vessel designated on the pair of LLP licenses in Column A must notify NMFS which LLP license from each pair in Column A is to be credited with qualifying landing(s) under 50 CFR 679.4(k)(14)(vi)(2).
LLG 3838 and LLG 2702 | X
LLG 3902 and LLG 3826 | X

Authority: 16 U.S.C. 773 et seq.; 1801 et seq.; 3631 et seq.; Pub. L. 108-447; Pub. L. 111-281.

Dated: June 15, 2018.
Samuel D. Rauch, III,
Deputy Assistant Administrator for Regulatory Programs, National Marine Fisheries Service.

[FR Doc. 2018-13249 Filed 6-19-18; 8:45 am]

BILLING CODE 3510-22-P